DEPARTMENT OF ENERGY

Federal Energy Regulatory Commission

[Docket No. RP03-559-000]

Questar Pipeline Company; Notice of Tariff Filing

August 8, 2003.

Take notice that on August 5, 2003, Questar Pipeline Company (Questar) tendered for filing as part of its FERC Gas Tariff, First Revised Volume No. 1, Fifth Revised Sheet No. 169, to be effective September 5, 2003.

Questar states that it is proposing to update 10.5(b) to the General Terms and Conditions of part 3 of its tariff to be more consistent with the economic and operational conditions of open-access storage service and to promote efficient utilization of Questar's Clay Basin storage capacity. Under Questar's proposal, FSS shippers will be notified at least six months prior to their contract expiration date to withdraw their remaining working gas or to transfer it to another Clay Basin storage or park and loan account.

Questar states that in light of the flexibility that its tariff provides, there are ample opportunities for shippers to withdraw their gas or make other arrangements for disposition of their gas from the Clay Basin storage reservoir prior to the time of contract.

Under its proposal, Questar states that it will, within two business days after expiration or termination of the service agreement, hold a bid period of ten days to sell, at the highest rate per Dth, any gas remaining in the FSS shipper's account. Questar asserts that any remaining gas unsold after the bid period will be subsequently sold on a first-come, first-served basis. Questar explains that upon receipt of payment from all sales, proceeds will be distributed to the shipper less any administrative costs incurred by Questar. Questar further explains that each purchasing shipper will have 15 days to withdraw or transfer its gas to a storage or park and loan account after payment has been received by Questar. Questar believes that these changes balance its needs with those of its customers.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 18, 2003.

Magalie R. Salas,
Secretary.

[FR Doc. 03-20979 Filed 8-15-03; 8:45 am]

BILLING CODE 6717-01-P